DEPARTMENT OF THE TREASURY

Office of Thrift Supervision

Submission for OMB Review; Comment Request—Savings and Loan Holding Company Report H-(b)11

AGENCY: Office of Thrift Supervision (OTS), Treasury.

ACTION: Notice and request for comment.

SUMMARY: The Department of the Treasury, as part of its continuing effort to reduce paperwork and respondent burden, invites the general public and other Federal agencies to comment on proposed and continuing information collections, as required by the Paperwork Reduction Act of 1995, 44 U.S.C. 3507. The Office of Thrift Supervision within the Department of the Treasury will submit the proposed information collection described below to the Office of Management and Budget (OMB) for review and approval, as required by the Paperwork Reduction Act. Today, OTS is soliciting public comments on the Savings Association Holding Company Report H0-(b)11 proposal.

DATES: Submit written comments on or before April 12, 2004.

ADDRESSES: Send comments, referring to the collection by title (Savings Association Holding Company Report H-(b)11) or by OMB approval number (1550-0060), to OMB and OTS at these addresses: Joseph F. Lackey, Jr., Office of Information and Regulatory Affairs, Office of Management and Budget, Room 10235, New Executive Office Building, Washington, DC 20503, or e-mail to Joseph_F._Lackey_Jr@omb.eop.gov; and Information Collection Comments, Chief Counsel's Office, Office of Thrift Supervision, 1700 G Street, NW., Washington, DC 20552, by fax to (202) 906-6518, or by e-mail to infocollection.comments@ots.treas.gov. OTS will post comments and the related index on the OTS Internet site at http://www.ots.treas.gov. In addition, interested persons may inspect comments at the Public Reading Room, 1700 G Street, NW., by appointment. To make an appointment, call (202) 906-5922, send an e-mail to publicinfo@ots.treas.gov, or send a facsimile transmission to (202) 906-7755.

FOR FURTHER INFORMATION CONTACT: To obtain a copy of the submission to OMB, contact Marilyn K. Burton at marilyn.burton@ots.treas.gov, (202) 906-6467, or facsimile number (202) 906-6518, Regulations and Legislation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Savings and Loan Holding Company Report H-(b)11.

OMB Number: 1550-0060.

Form Number: H-(b)11.

Regulation requirement: 12 CFR 584.1(a)(2).

Description: The H-(b)11 form is used by OTS to monitor savings and loan holding companies. As part of modernizing its supervision of savings and loan holding companies, OTS proposes to streamline and modernize its existing H-(b)11 form. The attached form reduces the amount of information items from 22 to four. Further, we are reducing the amount of “hard copy” submissions to only one, with another copy to be submitted in PDF format. OTS intends to substantially reduce the burden of the H-(b)11 by reducing duplication, and relying more on the expanded holding company information to be gathered in Schedule HC of the 2004 quarterly Thrift Financial Report (TFR), as well as examination scoping materials provided in the holding company Pre-Examination Response Kit (PERK). For holding companies that do not have a thrift subsidiary that files Schedule HC of the TFR, the holding company is to complete and file a quarterly Schedule HC. By transferring much of the needed information collection from the H-(b)11 to the PERK, OTS eliminates the duplication of effort in supplying the same information at two different times in the same year.

Type of Review: Renewal with revisions.

Affected Public: Savings association holding companies.

Estimated Number of Respondents: 1,007.

Estimated Frequency of Response: Quarterly (using the current form).

Estimated Burden Hours per Response: 2 hours.

Estimated Total Burden: 8,056 hours.

Clearance Officer: Marilyn K. Burton, (202) 906-6467, Office of Thrift Supervision, 1700 G Street, NW., Washington, DC 20552.

OMB Reviewer: Joseph F. Lackey, Jr., (202) 395-7316, Office of Management and Budget, Room 10235, New Executive Office Building, Washington, DC 20503.

Dated: March 1, 2004.
By the Office of Thrift Supervision.
Richard M. Riccobono,
Deputy Director.

[FR Doc. 04-5423 Filed 3-10-04; 8:45 am]

BILLING CODE 6720-01-P